COMMITTEE FOR THE IMPLEMENTATION OF TEXTILE AGREEMENTS

Establishment of an Import Limit for Certain Cotton Textile Products Produced or Manufactured in Pakistan

February 28, 2001.

AGENCY: Committee for the Implementation of Textile Agreements (CITA).

ACTION: Issuing a directive to the Commissioner of Customs establishing a limit.

EFFECTIVE DATE: March 17, 2001.

FOR FURTHER INFORMATION CONTACT: Ross Arnold, International Trade Specialist, Office of Textiles and Apparel, U.S. Department of Commerce, (202) 482-4212. For information on the quota status of this limit, refer to the Quota Status Reports posted on the bulletin boards of each Customs port, call (202) 927-5850, or refer to the U.S. Customs website at http://www.customs.ustreas.gov. For information on embargoes and quota re-openings, call (202) 482-3715. For information on categories on which consultations have been requested, refer to the Office of Textiles and Apparel website at http://otexa.ita.doc.gov.

SUPPLEMENTARY INFORMATION:

Authority: Section 204 of the Agricultural Act of 1956, as amended (7 U.S.C. 1854); Executive Order 11651 of March 3, 1972, as amended.

A notice published in the Federal Register on December 31, 1998 (63 FR 72288) announced that the Government of the United States had requested consultations with the Government of Pakistan on December 24, 1998 with respect to combed cotton yarn in Category 301, produced or manufactured in Pakistan and that, if no solution was agreed upon in consultations with the Government of Pakistan, the Government of the United States reserved its right to establish a twelve-month limit of not less than 5,262,665 kilograms for the entry for consumption and withdrawal from warehouse for consumption of combed cotton yarn in Category 301, produced or manufactured in Pakistan.

The Government of the United States has decided to establish a limit of 5,913,131 kilograms for the entry for consumption and withdrawal from warehouse for consumption of combed cotton yarn in Category 301, produced or manufactured in Pakistan for a third twelve-month period, beginning on March 17, 2001 and extending through March 16, 2002.

The United States remains committed to finding a mutually agreed solution concerning Category 301. Should such a solution be reached in consultations with the Government of Pakistan, further notice will be published in the Federal Register.

A description of the textile and apparel categories in terms of HTS numbers is available in the CORRELATION: Textile and Apparel Categories with the Harmonized Tariff Schedule of the United States (see Federal Register notice 65 FR 82328, published on December 28, 2000). Also see 65 FR 14544, published on March 17, 2000.

D. Michael Hutchinson,
Acting Chairman, Committee for the Implementation of Textile Agreements.

Committee for the Implementation of Textile Agreements

February 28, 2001.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on March 17, 2001, entry into the United States for consumption and withdrawal from warehouse for consumption of combed cotton yarn in Category 301, produced or manufactured in Pakistan and exported during the twelve-month period beginning on March 17, 2001 and extending through March 16, 2002, in excess of 5,913,131 kilograms.

The limit set forth above is subject to adjustment pursuant to the provisions of the ATC.

Products in the above category exported during the March 17, 2000 through March 16, 2001 period shall be charged to the limit for that year (see directive dated March 14, 2000) to the extent of any unfilled balances. In the event the limit established for that period has been exhausted by previous entries, such products shall be charged to the limit set forth in this directive.

In carrying out the above directions, the Commissioner of Customs should construe entry into the United States for consumption to include entry for consumption into the Commonwealth of Puerto Rico.

The Committee for the Implementation of Textile Agreements has determined that this action falls within the foreign affairs exception of the rulemaking provisions of 5 U.S.C. 553(a)(1).

Sincerely,

D. Michael Hutchinson,

Acting Chairman, Committee for the Implementation of Textile Agreements.

[FR Doc. 01-5391 Filed 3-2-01; 8:45 am]

BILLING CODE 3510-DR-F